DEPARTMENT OF HOMELAND SECURITY

Coast Guard

33 CFR Part 165

[CGD13-05-021]

RIN 1625-AA00

Safety Zone; Tacoma Tall Ships 2005, Commencement Bay, WA

AGENCY: Coast Guard, DHS.

ACTION: Temporary final rule.

SUMMARY: The Coast Guard is establishing temporary moving Safety Zones around the Tall Ships participating in the Tacoma Tall Ships 2005 Parade of Sail and simulated cannon battle events. The Safety Zones will be in effect in Quartermaster Harbor and Commencement Bay, Washington. These actions are necessary to provide for the safety of life and property on the navigable waters in Quartermaster Harbor and Commencement Bay, Washington for the participating Tall Ships during Tacoma Tall Ships 2005. This rule will temporarily restrict vessel traffic in portions of Quartermaster Harbor and Commencement Bay, Washington.

DATES: This rule is effective from 6 a.m. PDT on June 30, 2005 to 11:59 p.m. PDT on July 4, 2005.

ADDRESSES: Documents indicated in this preamble as being available in the docket are part of docket CGD13-05-021 and are available for inspection or copying at the Waterways Management Division, Coast Guard Sector Seattle, 1519 Alaskan Way South, Seattle, WA, 98134, between 8 a.m. and 3 p.m., Monday through Friday, except Federal holidays.

FOR FURTHER INFORMATION CONTACT: Lieutenant Junior Grade Jessica Hagen, Waterways Management Division, Coast Guard Sector Seattle, at (206) 217-6232.

SUPPLEMENTARY INFORMATION:

Regulatory Information

We did not publish a notice of proposed rulemaking (NPRM) for this regulation. Under 5 U.S.C. 553(b)(B), the Coast Guard finds that good cause exists for not publishing an NPRM. Due to the complex planning and coordination involved, final details for the Tacoma Tall Ships 2005 event were not provided to the Coast Guard until May 23, 2005, making it impossible to publish a NPRM or a final rule 30 days in advance.

Under 5 U.S.C. 553(d)(3), the Coast Guard finds that good cause exists for making this rule effective less than 30 days after publication in the Federal Register. Any delay in implementing this rule will be contrary to the public interest due to the risks inherent in this high visibility marine event with the participation of a large number of spectator and participating vessels.

Background and Purpose

Tacoma, Washington will host the Tacoma Tall Ships 2005 festival from June 30 to July 4, 2005. While the Tacoma Tall Ships 2005 event is not an annual event, this visit of vessels is part of an annual series of sail training races, rallies, cruises, and port festivals organized by the American Sail Training Association (“ASTA”) in conjunction with host ports in the United States and Canada.

The Tall Ships' visit to Tacoma, Washington will include a Parade of Sail into Tacoma on June 30, 2005, and simulated cannon battles from July 1 to July 4, 2005. Approximately 28 sailing vessels are expected to participate in the Parade of Sail. There will be vessels participating in the event from several foreign countries and the high visibility of this event warrants that a safety zone be established to safeguard participating vessels, their crews and the maritime public.

This rule creates safety zones for the Tacoma Tall Ships 2005 event. The regulations will be in effect in Quartermaster Harbor and Commencement Bay, Washington from June 30, 2005 until July 4, 2005 during the Parade of Sail and simulated cannon battles. Vessel congestion due to the large number of participating and spectator vessels poses a significant threat to the safety of life and property. This temporary rulemaking is necessary to ensure the safety of life and property on the navigable waters in Quartermaster Harbor and Commencement Bay by preventing the large number of spectator vessels from interfering with the organized events.

Discussion of Rule

The Coast Guard will establish moving Safety Zones surrounding the Tall Ships participating in the Tacoma Tall Ships 2005 Parade of Sail and simulated cannon battle events. The Safety Zones will be in effect in Quartermaster Harbor and Commencement Bay, Washington. These Safety Zones will be used for the participating vessels of the Tacoma Tall Ships 2005 event and is effective from 6 a.m. PDT on June 30, 2005 to 11:59 p.m. PDT on July 4, 2005. These Safety Zoned are designed to fit the needs of safety by facilitating the transit of participating vessels and minimizing the impact on the maritime community.

This rule will provide for the safety of spectator craft, mariners, and the Tall Ships themselves while the Tall Ships are participating in the Parade of Sail and simulated cannon battles. During the Parade of Sail, the Tall Ships will be underway, most likely under sail, and with limited mobility. The actual Parade of Sail is scheduled to last approximately ten hours, beginning at 10 a.m. PDT on June 30, 2005 and ending at approximately 8 p.m. PDT on June 30, 2005. The parading vessels will muster at a staging area in Quartermaster Harbor, and will then transit south in Commencement Bay to the Thea Foss Waterway.

This rule, for safety concerns, will control vessel movement in a regulated area surrounding the Tall Ships. For the purpose of this regulation, a Tall Ship means any vessel participating in Tacoma Tall Ships 2005. No vessel except for a public vessel may enter, remain in, or transit within the Safety Zone, unless authorized by the Coast Guard COTP Puget Sound or his on-scene designated representatives. Designated representatives of the Coast Guard COTP Puget Sound are defined as commissioned, warrant, and petty officers of the U.S. Coast Guard. Each person or vessel in a safety zone shall obey any direction or order of the COTP or his designated representatives. Public vessels for the purpose of this Temporary Final Rule are vessels owned, chartered, or operated by the United States, or by a State or political subdivision thereof.

Vessels requesting to enter, remain in, or transit within the Safety Zone shall contact the on-scene official patrol on VHF-FM channel 13. In addition, measures or directions issued by Vessel Traffic Service Puget Sound pursuant to 33 CFR part 161 shall take precedence over the regulations in this Temporary Final Rule. Similarly, when a Tall Ship approaches within 50 yards of any vessel that is moored or anchored, the stationary vessel must stay moored or anchored while it remains in the Tall Ship's safety zone unless it is either ordered by, or given permission by the Captain of the Port, his designated representative or the on-scene official patrol to do otherwise.

Sector Seattle maintains a telephone line that is manned 24 hours a day, 7 days a week. The public can contact Sector Seattle at (206) 217-6002 to obtain information concerning enforcement of this rule.

This Safety Zone regulation is enforceable by the terms set forth by 33 United States Code (U.S.C.) 1232. Enforcement of violations of these regulations may include, in addition to any civil and criminal penalties authorized by 33 U.S.C. 1232, in rem liability against the offending vessel as well as license sanctions against the offending mariner.

Regulatory Evaluation

This rule is not a “significant regulatory action” under section 3(f) of Executive Order 12866, Regulatory Planning and Review, and does not require an assessment of potential costs and benefits under section 6(a)(3) of that Order. The Office of Management and Budget has not reviewed this rule under that Order. It is not “significant” under the regulatory policies and procedures of the Department of Homeland Security (DHS).

We expect the economic impact of this rule to be so minimal that a full Regulatory Evaluation under the regulatory policies and procedures of DHS is unnecessary.

Although this rule restricts access to the regulated area, the effect of this rule will not be significant because: (i) Individual Tall Ships safety zones are limited in size; (ii) the official on-scene patrol may authorize access to the Tall Ship safety zone; (iii) the Tall Ship safety zone for any given transiting Tall Ship will affect a given geographical location for a limited time; and (iv) the Coast Guard will make notifications via maritime advisories so mariners can adjust their plans accordingly.

Additionally, the safety zones have been narrowly tailored to impose the least impact on maritime interests yet provide the level of safety and protection deemed necessary.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule may affect the following entities, some of which might be small entities: the owners or operators of vessels intending to operate near or anchor in the vicinity of Tall Ships in the navigable waters of the United States affected by this rule.

These safety zones will not have a significant economic impact on a substantial number of small entities for the following reasons. The regulations affecting navigation in Quartermaster Harbor and Commencement Bay will be in effect temporarily, and only for those periods of time necessary for the safety of the Tacoma Tall Ships 2005 event participants. Recreational vessel traffic can pass safely around designated safety zones. Before the effective periods, the Coast Guard will make notification to the public via Local Notices to Mariners and Broadcast Notice to Mariners.

Assistance for Small Entities

Under section 213(a) of the Small Business Regulatory Enforcement Fairness Act of 1996 (Public Law 104-121), the Coast Guard wants to assist small entities in understanding this rule so that they may better evaluate its effects on them and participate in the rulemaking process.

If you think that this rule will affect your small business, organization, or governmental jurisdiction and you have questions concerning its provisions or options for compliance, please contact the person listed in the FOR FURTHER INFORMATION CONTACT section above.

In addition, small businesses may make comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and will either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA)(42 U.S.C. 4321-4370f), and have concluded that there are no factors in this case that will limit the use of a categorical exclusion under section 2.B.2 of the Instruction. Therefore, this rule is categorically excluded, under figure 2-1, paragraph (34)(g) of the Instruction, from further environmental documentation. Due to the temporary safety zone being less than one week in duration, an Environmental Checklist and Categorical Exclusion is not required.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.

2. From 6 a.m. PDT on June 30, 2005 to 11:59 p.m. PDT on July 4, 2005, temporarily add § 165.T13-005 to read as follows:

§ 165.T13-005 Safety Zones; Tacoma Tall Ships 2005, Commencement Bay, Washington.

(a) Location. The following area is a safety zone: a 50 yard radius around all Tall Ships located in the navigable waters of Quartermaster Harbor and Commencement Bay, Washington.

(b) Effective dates. This section is effective from 6 a.m. (PDT) on June 30, 2005 to 11:59 p.m. (PDT) on July 4, 2005.

(c) The following definitions apply to this section:

(1) Federal Law Enforcement Officer means any employee or agent of the United States government who has the authority to carry firearms and make warrantless arrests and whose duties involve the enforcement of criminal laws of the United States.

(2) Tall Ship means any vessel participating in Tacoma Tall Ships 2005 event.

(3) Tall Ship Safety Zone is a regulated area of water established by this section, surrounding Tall Ships for a 50-yard radius to provide for the safety of these vessels.

(4) Navigation Rules means the International and Inland Navigations Rules, 33 CFR chapter I, subchapters D and E, parts 80-90.

(5) Navigable waters of the United States means those waters defined as such in 33 CFR part 2.

(6) Official Patrol means those persons designated by the Captain of the Port to monitor a Tall Ships safety zone, permit entry into the zone, give legally enforceable orders to persons or vessels with in the zone and take other actions authorized by the Captain of the Port. Persons authorized in paragraph (h) to enforce this section are designated as the Official Patrol.

(7) Public vessel means vessels owned, chartered, or operated by the United States, or by a State or political subdivision thereof.

(8) Washington Law Enforcement Officer means any General Authority Washington Peace Officer, Limited Authority Washington Peace Officer, or Specially Commissioned Washington Peace Officer as defined in Revised Code of Washington section 10.93.020.

(d) General Regulation. The Tall Ship safety zone established by this section remains in effect around Tall Ships when underway during the Parade of Sail and simulated cannon battles. The Navigation Rules shall apply at all times within a Tall Ship safety zone.

(e) Specific Regulations. (1) No vessel or person is allowed within 50 yards of a Tall Ship that is underway, unless authorized by the on-scene official patrol.

(2) To request authorization to operate within 50 yards of a Tall Ship that is underway, contact the on-scene official patrol on VHF-FM channel 13.

(3) When conditions permit, the on-scene official patrol should: Permit vessels constrained by their navigational draft or restricted in their ability to maneuver to pass within 50 yards of a Tall Ship in order to ensure a safe passage in accordance with the Navigation Rules.

(4) When a Tall Ship approaches within 50 yards of any vessel that is moored or anchored, the stationary vessel must stay moored or anchored while it remains within the Tall Ship's safety zone unless it is either ordered by, or given permission by the Captain of the Port Puget Sound, his designated representative or the on-scene official patrol to do otherwise.

(f) Exemption. Public vessels as defined in paragraph (c) of this section are exempt from complying with paragraphs (e)(1), (e)(2), (e)(3), and (e)(4) of this section.

(g) Exception. 33 CFR part 161 contains Vessel Traffic Service regulations. Measures or directions issued by Vessel Traffic Service Puget Sound pursuant to 33 CFR part 161 will take precedence over the regulations in this section.

(h) Enforcement. Any Coast Guard commissioned, warrant or petty officer may enforce the rules in this section. In the navigable waters of the United States to which this section applies, when immediate action is required and representatives of the Coast Guard are not present or not present in sufficient force to provide effective enforcement of this section in the vicinity of a Tall Ship, any Federal Law Enforcement Officer or Washington Law Enforcement Officer may enforce the rules contained in this section pursuant to 33 CFR 6.04-11. In addition, the Captain of the Port may be assisted by other Federal, state or local agencies in enforcing this section.

(i) Waiver. The Captain of the Port Puget Sound may waive any of the requirements of this section for any vessel or class of vessels upon finding that a vessel or class of vessels, operational conditions or other circumstances are such that application of this section is unnecessary or impractical for the purpose of port security, safety or environmental safety.

Dated: June 16, 2005.
Danny Ellis,
Captain, U.S. Coast Guard, Captain of the Port, Puget Sound.

[FR Doc. 05-12651 Filed 6-24-05; 8:45 am]

BILLING CODE 4910-15-P